SECURITIES AND EXCHANGE COMMISSION

[File No. 500-1]

In the Matter of: Camera Platforms International, Inc., Castleguard Energy, Inc., CD Warehouse, Inc., Ceatech USA, Inc., Cedyco Corp., Cell Robotics International, Inc., Cell Wireless Corp., Cellcom Corporation (n/k/a Cellcom I Corp.), and Central Utilities Production Corp.; Order of Suspension of Trading

October 13, 2010.

It appears to the Securities and Exchange Commission that there is a lack of current and accurate information concerning the securities of Camera Platforms International, Inc. because it has not filed any periodic reports since the period ended September 30, 2007.

It appears to the Securities and Exchange Commission that there is a lack of current and accurate information concerning the securities of Castleguard Energy, Inc. because it has not filed any periodic reports since the period ended September 30, 2006.

It appears to the Securities and Exchange Commission that there is a lack of current and accurate information concerning the securities of CD Warehouse, Inc. because it has not filed any periodic reports since the period ended March 31, 2002.

It appears to the Securities and Exchange Commission that there is a lack of current and accurate information concerning the securities of Ceatech USA, Inc. because it has not filed any periodic reports since the period ended July 31, 2003.

It appears to the Securities and Exchange Commission that there is a lack of current and accurate information concerning the securities of Cedyco Corp. because it has not filed any periodic reports since the period ended September 30, 1994.

It appears to the Securities and Exchange Commission that there is a lack of current and accurate information concerning the securities of Cell Robotics International, Inc. because it has not filed any periodic reports since the period ended March 31, 2005.

It appears to the Securities and Exchange Commission that there is a lack of current and accurate information concerning the securities of Cell Wireless Corp. because it has not filed any periodic reports since the period ended September 30, 2005.

It appears to the Securities and Exchange Commission that there is a lack of current and accurate information concerning the securities of Cellcom Corporation (n/k/a Cellcom I Corp.) because it has not filed any periodic reports since the period ended December 31, 2005.

It appears to the Securities and Exchange Commission that there is a lack of current and accurate information concerning the securities of Central Utilities Production Corp. because it has not filed any periodic reports since the period ended June 30, 2002.

The Commission is of the opinion that the public interest and the protection of investors require a suspension of trading in the securities of the above-listed companies.

Therefore, it is ordered, pursuant to Section 12(k) of the Securities Exchange Act of 1934, that trading in the securities of the above-listed companies is suspended for the period from 9:30 a.m. EDT on October 13, 2010, through 11:59 p.m. EDT on October 26, 2010.

By the Commission.
Jill M. Peterson,
Assistant Secretary.

[FR Doc. 2010-26123 Filed 10-13-10; 11:15 am]

BILLING CODE 8011-01-P